DEPARTMENT OF HOUSING AND URBAN DEVELOPMENT

[Docket No. FR-7014-N-20]

Federal Housing Administration (FHA) Healthcare Facility Documents: Notice Announcing Final Approved Federal Housing Administration (FHA) Healthcare Facility Documents and Assignment of OMB Control Number 2502-0605

AGENCY: Office of the Assistant Secretary for Housing—Federal Housing Commissioner, HUD.

ACTION: Notice.

SUMMARY: This notice announces that the healthcare facility documents have completed the notice and comment processes and review by the Office of Management and Budget (OMB) as required by the Paperwork Reduction Act and that OMB has approved the renewal (reinstatement with changes) of this document collection 2502-0605. The final versions of the documents can be found on HUD's website at https://www.hud.gov/federal_housing_administration/healthcare_facilities/residential_care/final_232_documents. Additionally, this notice highlights some of the changes made by HUD to the documents based upon its review of the comments submitted in response to notices dated April 10, 2018 and June 29, 2018.

DATES: Implementation Date: October 3, 2019.

HUD will allow a 90-day transition period for the implementation of the updated documents in this collection. Participants may choose to use the new documents beginning on July 5, 2019; however, if participants choose to use the new documents for a transaction (e.g. application submission, change of ownership, etc.), they must use all the new documents in their entirety and may not mix the use of old and new documents. Upon the Implementation Date of October 3, 2019, the use of only new documents in submitted transactions will be mandatory.

FOR FURTHER INFORMATION CONTACT: John M. Hartung, Director, Policy, Risk Analysis and Lender Relations Division, Office of Residential Care Facilities, Office of Healthcare Programs, Office of Housing, U.S. Department of Housing and Urban Development, 1222 Spruce Street, Room 3203, St. Louis, MO 63103-2836; telephone (314) 418-5238 (this is not a toll-free number). Persons with hearing or speech disabilities may access this number through TTY by calling the toll-free Federal Relay Service at (800) 877-8339.

SUPPLEMENTARY INFORMATION:

I. Background

On May 19, 2017, consistent with the Paperwork Reduction Act, (PRA), HUD published a notice in the Federal Register, 82 FR 23058, seeking public comment for a period of 60 days (60-day Notice) on HUD's proposed update and revisions to the transactional and supporting documents used for underwriting, accounts receivable financing, asset management, closing, and construction of healthcare facilities, insured pursuant to 12 U.S.C. 1715w, section 223(a)(7)-12 U.S.C § 1715n and 223f-12 U.S.C. 1715n of the National Housing Act. In conjunction with publication of the 60-Day Notice, the 153 healthcare facility documents (with proposed revisions) were made available for public review and comment. A summary of the changes to the existing healthcare facility documents was also provided so that reviewers could understand the changes proposed.

In response to the 60-Day Notice, HUD received 43 submissions on the regulations.gov site from multiple commenters which were considered in the development of the revised documents which were published on April 10, 2018 in the Federal Register (83 FR 15396), and again on June 29, 2018, (83 FR 30769) and consistent with the PRA, comment was solicited for an additional 30 and 15 days respectively. The second (15-day) publication was to allow the public to resubmit any comments from the 30-day process, which may not have been received by HUD and OMB, due to a technical problem; both of these latter publications presented the exact same documents, and comments from both the 30-day and 15-day versions were combined for review purposes. In response to the 30-Day and 15-Day Notices, HUD received 10 submissions on the regulations.gov site from multiple commenters which were considered in the development of the final documents.

This notice published today announces that HUD has completed the notice and comment processes required by the Paperwork Reduction Act, and that OMB has completed its review and has approved the renewal/reinstatement of document collection 2502-0605. HUD made additional changes to the documents in response to comments submitted on the 30-Day Notice. Therefore, in addition to announcing the completion of the process required by the Paperwork Reduction Act, HUD highlights some of the additional, most substantive, changes made to the healthcare facility documents (documents) in response to public comment as provided below.

II. Summary of Changes to Documents

The changes to the healthcare facility documents include both technical editorial changes and some more substantive changes. This notice does not provide a detailed summary of all of the changes made or responses to all of the issues raised in the final set of public comments on the 30-Day and 15-Day Notices. Rather, the discussion in the following sections of this notice highlights certain changes which are representative of the types of changes made in response to some of the more significant issues raised by the commenters in response to the 30-Day and 15-Day Notices.

A. Key Changes by Category of Document

Throughout the documents, language was added to make the forms works when there is a master lease without having to change the form, as was required in the past. Unnecessary possessives with the use of apostrophes and brackets were removed. For consistency throughout all of the documents, the word Secretary was replaced with HUD or U.S. Department of Housing and Urban Development. Edits suggesting reformatting were, in most cases, adopted by HUD.

1. Underwriting Lender Narratives

The lender narratives were not significantly changed after the 30-Day and 15-Day Notice. Based on public comments, the Lender Narratives were amended to reflect several edits to key questions for clarity and to reflect the changing regulatory environment.

2. Consolidated Certifications

HUD made a few substantive changes since the 60-Day Notice. As noted by several commenters, more drop-down menus were inserted for consistency with the document formatting style. These certifications received some public comments primarily for formatting and a few substantive suggested changes in terminology. HUD also amended language in the section pertaining to suits and legal actions. The updated language provides clarification to legal actions beyond professional liability actions. This change addresses comments received on the Request for Endorsement of Credit of Lender [and] Borrower [& General Contractor] which HUD accepted but was addressed in the Consolidated Certifications rather than in the Request for Endorsement of Credit of Lender [and] Borrower [& General Contractor] document.

3. Construction Documents

There were few public comments on this category of documents, and the majority of changes to the documents were for minor editing changes or clarifications of policy.

4. Underwriting Documents

HUD received a few comments which consisted of formatting and minor editing suggestions. The Operator Lease Addendum was revised to correctly reference the new Cross-Default Guaranty for Portfolios.

5. Accounts Receivable Documents

One commenter proposed multiple technical edits which were accepted.

6. Master Lease Documents

HUD received comments requesting technical edits to the Master Lease documents. Commenter noted that landlords should have the right to increase rents without prior HUD approval. As provided in response to another commenter, HUD acknowledges that the Borrower Regulatory Agreement does not place requirements for prior HUD approval for increases in rents. One commenter did note that the form HUD -91116-ORCF should be amended to reflect that the Borrower Regulatory Agreement only requires prior HUD approval when reducing the rents in the lease. HUD accepted the comment and revised this document and related documents where the provision as to whether HUD approval was needed for increases in rents was unclear. Another commenter voiced concern that landlords could unilaterally raise rents on third party operators and master tenants. To address this concern, HUD inserted additional language to address the concerns of third-party operators.

7. Closing Documents

Some technical edits from commenters were accepted by HUD throughout this category.

8. Escrow Documents

The comments consisted of technical edits to the Escrow Agreement for Debt Service Reserve and the Escrow Agreement for Operating deficits.

9. Legal Opinion/Certification Documentation

Several commenters asked for clarification on the scope of docket searches being requested. HUD responded by revising the form to clarify the jurisdictions and the participants that need to be searched.

10. Asset Management Documents

Few comments were received on this category of documents. However, one commenter noted some inconsistencies in the Computation of Surplus Cash form which was addressed by revising the language. One substantive change was made to form HUD-92266-ORCF Lender Narrative, Change of Ownership Review, to streamline transactions. Applicants no longer have to try and determine if a transaction is a Full, Modified, or Light review when there is a change of ownership. Instead, this form consolidates Full, Modified or Light Lender Narratives into one form with Transaction Determent Questions which will identify which documents they should submit from the checklist and which sections of the Lender Narrative they should complete.

11. 241a Supplemental Documents

This category of documents was entirely new to the initial Collection. Commenter made technical edits to these supplemental loan documents similar to those made on the main (underlying) loan documents. The edits HUD accepted were made to maintain consistency with the main (underlying) document and the related 241a Supplemental Loan documents.

III. Estimated Burden Hours of Collection

The following is a table of all the documents for which approval under the PRA was sought, with the burden hours and costs to respondents calculated for preparation of and submission of each of documents as well as the total aggregate annual cost of $2,952,596.06.

Dated: June 27, 2019.
John L. Garvin,
General Deputy Assistant Secretary for Housing.

This table, revised with updated information on burden hours and costs from the U.S. Department of Labor, Bureau of Labor Statistics, is included below:

Form No. | Document name | Number of respon- dents | Freq. of resp. | Resp. per annum | Avg. burden hour per resp. | Annual burden hours | Avg. hourly wage per resp. | Annual cost
Underwriting Lender Narratives
HUD-9001-ORCF | Lender Narrative—223a7 | 30 | 2.5 | 75 | 22.00 | 1,650 | $55 | $90,239
HUD-9002-ORCF | Lender Narrative—223f | 30 | 7.5 | 225 | 70.00 | 15,750 | 55 | 861,368
HUD-9003-ORCF | Lender Narrative—241a | 4 | 1 | 4 | 73.00 | 292 | 55 | 15,969
HUD-9004-ORCF | Lender Narrative—New Construction—Single Stage | 10 | 2 | 20 | 87.00 | 1,740 | 55 | 95,161
HUD-9005-ORCF | Lender Narrative—New Construction—2 Stage Initial Submittal | 10 | 2 | 20 | 63.00 | 1,260 | 55 | 68,909
HUD-9005a-ORCF | Lender Narrative—New Construction—2 Stage Final Submittal | 10 | 2 | 20 | 53.00 | 1,060 | 55 | 57,971
HUD-9006-ORCF | Lender Narrative—Substantial Rehabilitation—Single Stage | 4 | 1 | 4 | 93.00 | 372 | 55 | 20,345
HUD-9007-ORCF | Lender Narrative—Substantial Rehabilitation—2 Stage Initial Submittal | 4 | 1 | 4 | 70.00 | 280 | 55 | 15,313
HUD-9007a-ORCF | Lender Narrative—Substantial Rehabilitation—2 Stage Final Submittal | 4 | 1 | 4 | 70.00 | 280 | 55 | 15,313
HUD-9009-ORCF | Lender Narrative 232(i)—Fire Safety Equipment Installation, without Existing HUD Insured Mortgage | 5 | 2 | 10 | 15.00 | 150 | 55 | 8,204
HUD-90010-ORCF | Lender Narrative 232(i)—Fire Safety Equipment Installation, with Existing HUD Insured Mortgage | 5 | 2 | 10 | 15.00 | 150 | 55 | 8,204
HUD-90011-ORCF | Lender Narrative 223(d)—Operating Loss Loan | 1 | 2 | 2 | 15.00 | 30 | 55 | 1,641
HUD-9444-ORCF | Lender Narrative Cost Certification Supplement | 2 | 2 | 4 | 15.00 | 60 | 55 | 3,281
Consolidated Certifications
HUD-90012-ORCF | Consolidated Certification—Lender | 30 | 2.5 | 75 | 1.00 | 75 | 55 | 4,102
HUD-90013-ORCF | Consolidated Certification—Borrower | 77 | 1 | 77 | 1.00 | 77 | 55 | 4,211
HUD-90014-ORCF | Consolidated Certification—Principal of the Borrower | 38 | 2 | 76 | 1.00 | 76 | 55 | 4,156
HUD-90015-ORCF | Consolidated Certification—Operator | 35 | 2 | 70 | 1.00 | 70 | 55 | 3,828
HUD-90016-ORCF | Consolidated Certification—Parent of Operator | 35 | 2 | 70 | 1.00 | 70 | 55 | 3,828
HUD-90017-ORCF | Consolidated Certification—Management Agent | 35 | 2 | 70 | 1.00 | 70 | 55 | 3,828
HUD-90018-ORCF | Consolidated Certification—Contractors | 4 | 1 | 4 | 1.50 | 6 | 55 | 328
HUD-90021-ORCF | Previous Participation Certification—Controlling Participant | 30 | 5.83 | 174.9 | 1.00 | 174.9 | 55 | 9,565
Construction Documents
HUD-9442-ORCF | Memo for Post-Commitment Early Start of Construction Request | 3 | 2 | 6 | 1.00 | 6 | 55 | 330
HUD-90023-ORCF | Early Commencement/Early Start—Borrower Certification | 3 | 2 | 6 | 0.25 | 1.5 | 55 | 83
HUD-91123-ORCF | Design Professional's Certification of Liability Insurance | 26 | 2 | 52 | 0.50 | 26 | 61 | 1,573
HUD-91124-ORCF | Design Architect Certification | 26 | 2 | 52 | 0.50 | 26 | 61 | 1,573
HUD-91125-ORCF | Staffing Schedule | 30 | 5.83 | 174.9 | 1.00 | 174.9 | 55 | 9,565
HUD-91127-ORCF | Financial Statement Certification—General Contractor | 26 | 2 | 52 | 0.50 | 26 | 55 | 1,422
HUD-91129-ORCF | Lender Certification for New Construction Cost Certifications | 10 | 5.2 | 52 | 3.00 | 156 | 55 | 8,532
HUD-92328-ORCF | Contractor's and/or Mortgagor's Cost Breakdown | 26 | 2 | 52 | 4.00 | 208 | 55 | 11,376
HUD-92403-ORCF | Application for Insurance of Advance of Mortgage Proceeds | 3 | 2 | 6 | 0.20 | 1.2 | 55 | 66
HUD-92408-ORCF | HUD Amendment to B108 | 26 | 2 | 52 | 0.50 | 26 | 55 | 1,422
HUD-92415-ORCF | Request for Permission to Commence Construction Prior to Initial Endorsement for Mortgage Insurance (Post-Commitment Early Start of Construction) | 3 | 2 | 6 | 0.50 | 3 | 61 | 182
HUD-92437-ORCF | Request for Construction Changes on Project Mortgages | 3 | 2 | 6 | 2.00 | 12 | 55 | 656
HUD-92441-ORCF | Building Loan Agreement | 10 | 5.2 | 52 | 1.00 | 52 | 55 | 2,844
HUD-92441a-ORCF | Building Loan Agreement Supplemental | 10 | 5.2 | 52 | 1.00 | 52 | 55 | 2,844
HUD-92442-ORCF | Construction Contract | 10 | 5.2 | 52 | 1.00 | 52 | 55 | 2,844
HUD-92448-ORCF | Contractor's Requisition | 3 | 2 | 6 | 6.00 | 36 | 55 | 1,969
HUD-92450-ORCF | Completion Assurance | 10 | 5.2 | 52 | 0.50 | 26 | 55 | 1,422
HUD-92452-ORCF | Performance Bond—Dual Obligee | 5 | 5.2 | 26 | 0.50 | 13 | 100 | 1,295
HUD-92452A-ORCF | Payment Bond | 5 | 5.2 | 26 | 0.50 | 13 | 55 | 711
HUD-92455-ORCF | Request for Endorsement | 10 | 5.2 | 52 | 1.00 | 52 | 55 | 2,844
HUD-92456-ORCF | Escrow Agreement for Incomplete Construction | 3 | 2 | 6 | 0.50 | 3 | 55 | 164
HUD-92479-ORCF | Offsite Bond—Dual Obligee | 5 | 3 | 15 | 0.50 | 7.5 | 55 | 410
HUD-92485-ORCF | Permission to Occupy | 3 | 2 | 6 | 0.50 | 3 | 55 | 164
HUD-92554-ORCF | Supplementary Conditions of the Contract for Construction | 10 | 5.2 | 52 | 0.50 | 26 | 100 | 2,590
HUD-93305-ORCF | Agreement and Certification | 10 | 5.2 | 52 | 0.50 | 26 | 55 | 1,422
HUD-95379-ORCF | HUD Representative's Trip Report | 26 | 28 | 728 | 1.00 | 728 | 55 | 39,814
Underwriting Documents
HUD-2-ORCF | Request for Waiver of Housing Directive | 20 | 8 | 160 | 1.00 | 160 | 55 | 8,750
HUD-935.2D-ORCF | Affirmative Fair Housing Marketing Plan—232 | 10 | 5.2 | 52 | 6.00 | 312 | 55 | 17,063
HUD-941-ORCF | Lenders FHA Number Request Form | 30 | 11.7 | 351 | 0.50 | 175.5 | 55 | 9,598
HUD-9445-ORCF | Certification of Outstanding Obligations | 35 | 10 | 350 | 1.00 | 350 | 61 | 21,175
HUD-9839-ORCF | Management Certification—Residential Care Facility | 5 | 1 | 5 | 0.50 | 2.5 | 55 | 137
HUD-90022-ORCF | Certification for Electronic Submittal | 35 | 10 | 350 | 0.50 | 175 | 55 | 9,571
HUD-90024-ORCF | Contact Sheet | 35 | 10 | 350 | 1.00 | 350 | 55 | 19,142
HUD-91116-ORCF | Addendum to Operating Lease | 30 | 6.5 | 195 | 0.50 | 97.5 | 61 | 5,899
HUD-91126-ORCF | Financial Statement Certification—Borrower | 150 | 7 | 1050 | 0.50 | 525 | 55 | 28,712
HUD-91130-ORCF | Building Code Certification | 26 | 2 | 52 | 0.50 | 26 | 61 | 1,573
HUD-92000-ORCF | Appraisal Sockets | 30 | 11.7 | 351 | 1.50 | 526.5 | 61 | 31,853
HUD-92264a-ORCF | Maximum Insurable Loan Calculation | 30 | 11.7 | 351 | 2.00 | 702 | 61 | 42,471
HUD-92434-ORCF | Lender Certification | 35 | 10 | 350 | 1.00 | 350 | 55 | 19,142
Accounts Receivable Documents
HUD-90020-ORCF | Accounts Receivable Financing Certification | 50 | 3 | 150 | 0.50 | 75 | 100 | 7,470
HUD-92322-ORCF | Intercreditor Agreement (for AR Financed Projects) | 30 | 5 | 150 | 1.50 | 225 | 100 | 22,410
Master Lease Documents
HUD-92211-ORCF | Master Lease Addendum | 5 | 5 | 25 | 1.00 | 25 | 100 | 2,490
HUD-92331-ORCF | Cross-Default Guaranty of Subtenants | 30 | 5.83 | 175 | 1.00 | 174.9 | 100 | 17,420
HUD-92333-ORCF | Master Lease SNDA | 30 | 5.83 | 175 | 0.50 | 87.45 | 100 | 8,710
HUD-92334-ORCF | Master Tenant Assignment of Leases and Rents | 30 | 5.83 | 175 | 1.00 | 174.9 | 100 | 17,420
HUD-92335-ORCF | Guide for Opinion of Master Tenant's Counsel | 30 | 5.83 | 175 | 1.00 | 174.9 | 100 | 17,420
HUD-92336-ORCF | Subordinate Cross-Default Guaranty of Subtenants | 30 | 5.83 | 175 | 1.00 | 174.9 | 100 | 17,420
HUD-92337-ORCF | Healthcare Regulatory Agreement—Master Tenant | 30 | 5.83 | 175 | 0.50 | 87.45 | 100 | 8,710
HUD-92339-ORCF | Master Lease Estoppel Agreement | 30 | 5.83 | 175 | 0.50 | 87.45 | 100 | 8,710
HUD-92340-ORCF | Master Tenant Security Agreement | 30 | 5.83 | 175 | 1.00 | 174.9 | 100 | 17,420
HUD-92341-ORCF | Termination and Release of Cross-Default Guaranty of Subtenants | 30 | 5.83 | 175 | 0.50 | 87.45 | 100 | 8,710
HUD-92342-ORCF | Amendment to HUD Master Lease (Partial Termination and Release) | 30 | 5.83 | 175 | 0.50 | 87.45 | 100 | 8,710
HUD-92343-ORCF | Limited Guaranty and Security Agreement | 30 | 5.83 | 175 | 1.00 | 174.9 | 100 | 17,420
Closing Documents
HUD-2205A-ORCF | Borrower's Certificate of Actual Cost | 30 | 7.5 | 225 | 3.50 | 787.5 | 55 | 43,068
HUD-91110-ORCF | Subordination, Non-Disturbance and Attornment Agreement of Operating Lease (SNDA) | 30 | 11.7 | 351 | 0.50 | 175.5 | 100 | 17,480
HUD-91111-ORCF | Survey Instructions and Borrower's Certification | 180 | 1.5 | 270 | 0.50 | 135 | 61 | 8,168
HUD-91112-ORCF | Request of Overpayment of Firm Application Exam Fee | 15 | 5.13 | 76.95 | 0.50 | 38.475 | 55 | 2,104
HUD-91118-ORCF | Borrower's Certification—Completion of Critical Repairs | 240 | 1 | 240 | 0.50 | 120 | 55 | 6,563
HUD-91710-ORCF | Residual Receipts Note—Non-Profit Mortgagor | 5 | 2 | 10 | 0.50 | 5 | 55 | 273
HUD-92023-ORCF | Request for Final Endorsement | 10 | 5.2 | 52 | 1.00 | 52 | 55 | 2,844
HUD-92070-ORCF | Lease Addendum | 2 | 1 | 2 | 0.50 | 1 | 100 | 100
HUD-92071-ORCF | Management Agreement Addendum | 35 | 11.7 | 409.5 | 0.50 | 204.75 | 55 | 11,198
HUD-92223-ORCF | Surplus Cash Note | 7 | 2 | 14 | 0.50 | 7 | 55 | 383
HUD-92323-ORCF | Operator Security Agreement | 30 | 6.5 | 195 | 1.00 | 195 | 100 | 19,422
HUD-92324-ORCF | Operator Assignment of Leases and Rents | 30 | 6.5 | 195 | 1.00 | 195 | 100 | 19,422
HUD-92330-ORCF | Mortgagor's Certificate of Actual Cost | 5 | 3 | 15 | 8.00 | 120 | 55 | 6,563
HUD-92330A-ORCF | Contractor's Certificate of Actual Cost | 5 | 3 | 15 | 8.00 | 120 | 55 | 6,563
HUD-92420-ORCF | Subordination Agreement—Financing | 7 | 2 | 14 | 0.50 | 7 | 100 | 697
HUD-92435-ORCF | Lender's Certification—Insurance Coverage | 35 | 11.7 | 409.5 | 0.25 | 102.375 | 55 | 5,599
HUD-92466-ORCF | Healthcare Regulatory Agreement—Borrower | 35 | 10 | 350 | 0.50 | 175 | 100 | 17,430
HUD-92466A-ORCF | Healthcare Regulatory Agreement—Operator | 10 | 2 | 20 | 0.50 | 10 | 100 | 996
HUD-92468-ORCF | Healthcare Regulatory Agreement—Fire Safety | 35 | 2 | 70 | 0.50 | 35 | 100 | 3,486
HUD-94000-ORCF | Security Instrument/Mortgage/Deed of Trust | 35 | 10 | 350 | 0.50 | 175 | 100 | 17,430
HUD-94000-ORCF-ADD | Security Instrument/Mortgage/Deed of Trust Addenda (various states) | 35 | 10 | 350 | 0.50 | 175 | 100 | 17,430
HUD-94000B-ORCF | Rider to Security Instrument—LIHTC | 35 | 10 | 350 | 0.50 | 175 | 100 | 17,430
HUD-94001-ORCF | Healthcare Facility Note | 35 | 10 | 350 | 1.00 | 350 | 55 | 19,142
HUD-94001-ORCF-RI | Healthcare Facility Note—Rider (various states) | 35 | 10 | 350 | 0.50 | 175 | 55 | 9,571
Escrow Documents
HUD-9443-ORCF | Minor Moveable Escrow | 26 | 2 | 52 | 1.00 | 52 | 61 | 3,146
HUD-91071-ORCF | Escrow Agreement for Off-site Facilities | 3 | 2 | 6 | 0.50 | 3 | 55 | 164
HUD-91128-ORCF | Initial Operating Deficit Escrow Calculation Template | 11 | 5 | 55 | 1.50 | 82.5 | 61 | 4,991
HUD-92412-ORCF | Working Capital Escrow | 10 | 5.2 | 52 | 0.50 | 26 | 55 | 1,422
HUD-92414-ORCF | Latent Defects Escrow | 20 | 12 | 240 | 0.50 | 120 | 55 | 6,563
HUD-92464-ORCF | Request Approval Advance of Escrow Funds | 35 | 15 | 525 | 1.00 | 525 | 55 | 28,712
HUD-92476-ORCF | Escrow Agreement Noncritical Deferred Repairs | 20 | 12 | 240 | 0.50 | 120 | 55 | 6,563
HUD-92476B-ORCF | Escrow Agreement for Operating Deficits | 12 | 4.8 | 57.6 | 0.50 | 28.8 | 55 | 1,575
HUD-92476C-ORCF | Escrow Agreement for Debt Service Reserves | 12 | 4.8 | 57.6 | 0.50 | 28.8 | 55 | 1,575
Legal Opinion/Certification Documents
HUD-91117-ORCF | Operator Estoppel Certificate | 100 | 2 | 200 | 0.50 | 100 | 100 | 9,960
HUD-91725-ORCF | Guide for Opinion of Borrower's Counsel | 35 | 10 | 350 | 2.00 | 700 | 100 | 69,720
HUD-91725-INST-ORCF | Instructions to Guide for Opinion of Borrower's and Operator's Counsel | 35 | 10 | 350 | 0.00 | 0 | 100 | 0
HUD-91725-CERT-ORCF | Exhibit A to Opinion of Borrower's Counsel—Certification | 35 | 10 | 350 | 2.00 | 700 | 100 | 69,720
HUD-92325-ORCF | Guide for Opinion of Operator's Counsel and Certification | 30 | 6.5 | 195 | 1.50 | 292.5 | 100 | 29,133
HUD-92327-ORCF | Consolidated Operator Opinion [Single State] | 30 | 5.83 | 175 | 1.00 | 174.9 | 100 | 17,420
Asset Management Documents
HUD-1044-D-ORCF | Multifamily Insurance Branch Claim | 20 | 7 | 140 | 0.50 | 70 | 55 | 3,828
HUD-2537-ORCF | Mortgagee's Application for Partial Settlement | 20 | 7 | 140 | 0.25 | 35 | 55 | 1,914
HUD-2747-ORCF | Application for Insurance Benefits | 20 | 7 | 140 | 0.10 | 14 | 55 | 766
HUD-9250-ORCF | Funds Authorizations | 500 | 5.6 | 2,800 | 1.00 | 2,800 | 55 | 153,132
HUD-9807-ORCF | Insurance Termination Request | 20 | 7 | 140 | 0.10 | 14 | 55 | 766
HUD-90019-ORCF | Auditor's Loss period Financial Statement Certification (223d) | 3 | 1 | 3 | 0.50 | 1.5 | 55 | 82
HUD-90029-ORCF | 232 Healthcare Portal Access | 60 | 3 | 180 | 0.50 | 90 | 55 | 4,922
HUD-90030-ORCF | Lender Narrative, Requests to Release or Modify Original Loan Collateral | 30 | 2 | 60 | 3 | 180 | 55 | 9,844
HUD-90031-ORCF | Lender Narrative, Accounts Receivable | 30 | 2 | 60 | 1.5 | 90 | 55 | 4,922
HUD-90032-ORCF | Lender Narrative, Loan Modification | 20 | 4 | 80 | 1.50 | 120 | 55 | 6,563
HUD-90033-ORCF | Loan Modification Lender Certification | 20 | 4 | 80 | 0.50 | 40 | 55 | 2,188
HUD-92080-ORCF | Mortgage Record Change—232 | 20 | 1 | 20 | 0.25 | 5 | 55 | 273
HUD-92117-ORCF | Borrower's Certification—Completion of Non-Critical Repairs | 250 | 2 | 500 | 0.50 | 250 | 55 | 13,673
HUD-92228-ORCF | Model Form Bill of Sale and Assignment | 20 | 2 | 40 | 0.50 | 20 | 55 | 1,094
HUD-92266-ORCF | Application for Transfer of Physical Assets (TPA) | 50 | 4 | 200 | 5.00 | 1,000 | 55 | 54,690
HUD-92266A-ORCF | Lender Narrative, Change of Operator/Lessee | 25 | 1 | 25 | 4.00 | 100 | 55 | 5,469
HUD-92266B-ORCF | Lender Narrative, Change of Management Agent | 25 | 1 | 25 | 2.00 | 50 | 55 | 2,735
HUD-92417-ORCF | Personal Financial and Credit Statement | 175 | 6 | 1,050 | 3.50 | 3,675 | 55 | 200,986
HUD-93332-ORCF | Certification of Exigent Health & Safety (EH&S) Issues | 456 | 1 | 456 | 1.00 | 456 | 55 | 24,939
HUD-93333-ORCF | Certification Physical Condition in Compliance | 208 | 1 | 208 | 0.50 | 104 | 55 | 5,688
HUD-93334-ORCF | Servicer's Notification to HUD of Risks to Healthcare Project | 60 | 15 | 900 | 0.5 | 450 | 55 | 24,611
HUD-93335-ORCF | Operator's Notification to HUD of Threats to Permits and Approvals | 60 | 5 | 300 | 0.5 | 150 | 55 | 8,204
HUD-93479-ORCF | Monthly Report for Establishing Net Income | 60 | 2 | 120 | 1.00 | 120 | 55 | 6,563
HUD-93480-ORCF | Schedule of Disbursements | 60 | 12 | 720 | 1.00 | 720 | 55 | 39,377
HUD-93481-ORCF | Schedule of Accounts Payable | 60 | 12 | 720 | 1.00 | 720 | 55 | 39,377
HUD-93486-ORCF | Computation of Surplus Cash | 70 | 1 | 70 | 0.50 | 35 | 55 | 1,914
241a—Supplemental Loan Documents
HUD-91116A-ORCF | Supplemental Addendum to Operator Lease | 10 | 0.5 | 5 | 0.50 | 2.5 | 100 | 249
HUD-92211A-ORCF | Supplemental Master Lease Addendum | 10 | 0.5 | 5 | 1.00 | 5 | 100 | 498
HUD-92323A-ORCF | Supplemental Operator Security Agreement | 10 | 0.5 | 5 | 1.00 | 5 | 100 | 498
HUD-92324A-ORCF | Supplemental Operator Assignment of Leases and Rents | 30 | 6.5 | 195 | 1.00 | 195 | 100 | 19,422
HUD-92333A-ORCF | Supplemental Master Lease SNDA | 10 | 0.5 | 5 | 0.50 | 2.5 | 100 | 249
HUD-92334-ORCF | Supplemental Master Tenant Assignment of Leases and Rents | 30 | 5.83 | 174.9 | 1.00 | 174.9 | 100 | 17,420
HUD-92338-ORCF | Supplemental Healthcare Regulatory Agreement—Master Tenant | 10 | 0.5 | 5 | 0.50 | 2.5 | 100 | 249
HUD-92340A-ORCF | Supplemental Master Tenant Security Agreement | 10 | 0.5 | 5 | 1.00 | 5 | 100 | 498
HUD-92434A-ORCF | Supplemental Lender's Certificate for 241(a) | 10 | 0.5 | 5 | 1.00 | 5 | 55 | 273
HUD-92441B-ORCF | Supplemental Building Loan Agreement for 241(a) | 10 | 0.5 | 5 | 1.00 | 5 | 55 | 273
HUD-92467-ORCF | Supplemental Healthcare Regulatory Agreement—Borrower | 10 | 0.5 | 5 | 0.50 | 2.5 | 100 | 249
HUD-92467A-ORCF | Supplemental Healthcare Regulatory Agreement—Operator | 10 | 0.5 | 5 | 0.50 | 2.5 | 100 | 249
HUD-94000A-ORCF | Supplemental Security Instrument/Mortgage/Deed of Trust | 10 | 0.5 | 5 | 0.50 | 2.5 | 100 | 249
HUD-94001A-ORCF | Supplemental Healthcare Facility Note | 10 | 0.5 | 5 | 1.00 | 5 | 55 | 273
|  | 5,451 | 730 | 26,125 | 5.32 | 49,226 | 68 | 2,952,596

[FR Doc. 2019-14410 Filed 7-3-19; 8:45 am]

BILLING CODE 4210-67-P